FEDERAL COMMUNICATIONS COMMISSION

47 CFR Part 73

[DA No. 00-540; MM Docket No. 99-298; RM-9714]

Radio Broadcasting Services; St. James and Fairmont, MN

AGENCY: Federal Communications Commission.

ACTION: Proposed rule; withdrawal.

SUMMARY: This document dismisses a petition for rule making filed by Minnesota Valley Broadcasting Company, Inc. requesting the reallotment of Channel 263C2 from St. James, Minnesota, to Fairmont, Minnesota, and modification of the license for Station KXAC to specify operation at Fairmont. See 64 FR 56724, October 21, 1999. Minnesota Valley Broadcasting Company, Inc. withdrew its interest in the allotment of Channel 263C2 at Fairmont, Minnesota. With this action, this proceeding is terminated.

FOR FURTHER INFORMATION CONTACT: Kathleen Scheuerle, Mass Media Bureau, (202) 418-2180.

SUPPLEMENTARY INFORMATION: This is a summary of the Commission's Report and Order, MM Docket No. 99-298, adopted March 6, 2000, and released March 10, 2000. The full text of this Commission decision is available for inspection and copying during normal business hours in the Commission's Reference Center, 445 Twelfth Street, SW, Washington, DC. The complete text of this decision may also be purchased from the Commission's copy contractors, International Transcription Services, Inc., 1231 20th Street, NW, Washington, DC 20036, (202) 857-3800, facsimile (202) 857-3805.

Federal Communications Commission.
John A. Karousos,
Chief, Allocations Branch, Policy and Rules Division, Mass Media Bureau.

[FR Doc. 00-7601 Filed 3-27-00; 8:45 am]

BILLING CODE 6712-01-P